DEPARTMENT OF COMMERCE

International Trade Administration

[A-549-817]

Certain Hot-Rolled Carbon Steel Flat Products from Thailand: Final Results of Antidumping Duty Administrative Review

AGENCY: Import Administration, International Trade Administration, Department of Commerce.

SUMMARY: On August 5, 2009, the Department of Commerce (the Department) published the preliminary results of the administrative review of the antidumping duty order on certain hot-rolled carbon steel flat products (hot-rolled steel) from Thailand. The period of review is November 1, 2007, through October 31, 2008. We received comments from interested parties, but have made no changes to the margin for the final results. The final margin for the respondent is listed below in the section entitled “Final Results of Review.”

EFFECTIVE DATE: December 10, 2009.

FOR FURTHER INFORMATION CONTACT: David Cordell or Robert James AD/CVD Operations, Office 7, Import Administration, International Trade Administration, U.S. Department of Commerce, 14th Street and Constitution Avenue, NW, Washington, DC 20230; telephone: (202) 482-0408 or (202) 482-0469, respectively.

SUPPLEMENTARY INFORMATION:

Background

On August 5, 2009, the Department of Commerce (the Department) published the preliminary results of the administrative review of the antidumping duty order on certain hot-;rolled steel from Thailand. See Certain Hot-Rolled Carbon Steel Flat Products from Thailand, 74 FR 39047 (August 5, 2009) (Preliminary Results).

On September 4, 2009, we received a case brief from the sole respondent, G Steel Public Company Limited (G Steel) and G J Steel Public Company Limited (G J Steel). On September 11, 2009, we received rebuttal briefs from petitioner United States Steel Corporation (U.S. Steel) and domestic interested party Nucor Corporation (Nucor). No public hearing was held. On September 14, 2009, the Department returned G Steel and G J Steel's case brief to the company's legal counsel as the brief contained new factual information. On September 15, 2009, G Steel and G J Steel refiled the case brief, omitting the new factual information.

Period of Review

The period of review is November 1, 2007, through October 31, 2008.

Scope of the Order

For purposes of the order, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this review.

Specifically included within the scope of this review are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this review, regardless of definitions in the Harmonized Tariff Schedule of the United States (HTSUS), are products in which: i) iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this review unless otherwise excluded. The following products, by way of example, are outside or specifically excluded from the scope of this review:

-Alloy hot-rolled steel products in which at least one of the chemical elements exceeds those listed above (including, e.g., American Society for Testing and Materials (ASTM) specifications A543, A387, A514, A517, A506).

-Society of Automotive Engineers (SAE)/American Iron & Steel Institute (AISI) grades of series 2300 and higher.

-Ball bearing steels, as defined in the HTSUS.

-Tool steels, as defined in the HTSUS.

-Silico-manganese (as defined in the HTSUS) or silicon electrical steel with a silicon level exceeding 2.25 percent.

-ASTM specifications A710 and A736.

-USS abrasion-resistant steels (USS AR 400, USS AR 500).

-All products (proprietary or otherwise) based on an alloy ASTM specification (sample specifications: ASTM A506, A507).

-Non-rectangular shapes, not in coils, which are the result of having been processed by cutting or stamping and which have assumed the character of articles or products classified outside chapter 72 of the HTSUS.

The merchandise subject to this review is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this review, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and Customs purposes, the written description of the merchandise under review is dispositive.

Analysis of Comments Received

All issues raised in the briefs are addressed in the “Issues and Decision Memorandum for the Final Results of Antidumping Duty Administrative Review and Partial Rescission of Antidumping Duty Administrative Review: Certain Hot-Rolled Carbon Steel Flat Products from Thailand,” dated December 3, 2009, (Issues and Decision Memorandum), which is hereby adopted by this notice. A list of the issues raised, all of which are in the Issues and Decision Memorandum, is attached to this notice. Parties can find a complete discussion of all issues raised in the briefs and the corresponding recommendations in this public memorandum which is on file in the Central Records Unit (CRU), room 1117 of the Department of Commerce building. In addition, a complete version of the Issues and Decision Memorandum can be accessed directly on the Web at http://www.trade.gov/ia/. The paper copy and electronic version of the Issues and Decision Memorandum are identical in content.

Changes Since the Preliminary Results

Based on the comments received from the interested parties, we have made no changes to the Preliminary Results for G Steel and G J Steel. See Issues and Decision Memorandum for discussion of the issues raised by parties.

Final Results of Review

In the Preliminary Results, we determined that G J Steel is the successor-in-interest to the former Nakornthai Strip Mill Public Company Limited (Nakornthai) for purposes of this proceeding and application of the antidumping law. We did not receive comments on this issue and have no reason to change our findings from the Preliminary Results. For a complete discussion of our successorship analysis, see Preliminary Results, 74 FR at 39051.

The Department also determined that G Steel and G J Steel should be collapsed and treated as a single entity for purposes of this proceeding and application of the antidumping law. Id. at 39050. We received comments on this issue which are addressed in the Issues and Decision Memorandum. We have concluded for these Final Results that G Steel and G J Steel should continue to be collapsed and treated as a single entity for purposes of this proceeding and application of the antidumping law.

Finally, the Department preliminarily determined to apply an adverse facts available (AFA) rate of 20.30 percent to the collapsed G Steel and G J Steel entity. Id. at 39050. We also received comments on this issue, which are addressed in the Issues and Decision Memorandum. The Department has concluded that the margin for G Steel and G J Steel should be based upon AFA.

Accordingly, we determine that G J Steel is the successor-in-interest to Nakornthai, and that the AFA rate of 20.30 percent should be applied to the G Steel/G J Steel entity.

We determine therefore that the following weighted-average margin exists:

Manufacturer/Exporter | Weighted Average Margin (percent)
G Steel and G J Steel | 20.30 percent

The Department will determine, and U.S. Customs and Border Protection (CBP) shall assess, antidumping duties on all appropriate entries, pursuant to 19 CFR 351.212(b). Accordingly, we will instruct CBP to assess duties upon all entries of merchandise produced or exported by G Steel or G J Steel at a rate of 20.30 percent ad valorem. The Department intends to issue appropriate assessment instructions directly to CBP 15 days after publication of these final results of review.

The Department clarified its “automatic assessment” regulation on May 6, 2003. This clarification applies to POR entries of subject merchandise produced by companies examined in this review where the companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of the final results of this administrative review for all shipments of certain hot-rolled carbon steel flat products from Thailand entered, or withdrawn from warehouse, for consumption on or after the publication date of these final results, as provided by section 751(a) of the Act: (1) for companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 3.86 percent,¹ the all-others rate established in the less-than-fair-value investigation. These deposit requirements shall remain in effect until further notice.

¹ In the Preliminary Results, the Department inadvertently indicated the cash deposit all others rate as 4.44 percent. The rate should be 3.86 percent as specified in the Antidumping Duty Order. See Antidumping Duty Order: Certain Hot-Rolled Carbon Steel Flat Products From Thailand, 66 FR 59562 (November 29, 2001).

Reimbursement of Duties

This notice also serves as a final reminder to importers of their responsibility under 19 CFR 351.402(f)(2) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: December 3, 2009.
Ronald K. Lorentzen,
Deputy Assistant Secretary for Import Administration.

Appendix: Issues Raised in Decision Memorandum

Comment 1: Collapsing of G Steel and G J Steel

Comment 2: Application of Adverse Facts Available to G Steel and G J Steel

Comment 3: Selection of Adverse Facts Available Rate for G Steel and G J Steel

[FR Doc. E9-29471 Filed 12-9-09; 8:45 am]

BILLING CODE 3510-DS-S